DEPARTMENT OF ENERGY

Federal Energy Regulatory Commission

[Project No. 13622-000]

Bishop Tungsten Development, LLC; Notice of Preliminary Permit Application Accepted for Filing and Soliciting Comments, Motions To Intervene, and Competing Applications

October 20, 2010.

On November 9, 2009, Bishop Tungsten Development, LLC filed an application for a preliminary permit, pursuant to section 4(f) of the Federal Power Act (FPA), proposing to study the feasibility of the Pine Creek Mine Water Discharge System Site 3 Project to be located near the town of Bishop, in Inyo County, California. The sole purpose of a preliminary permit, if issued, is to grant the permit holder priority to file a license application during the permit term. A preliminary permit does not authorize the permit holder to perform any land-disturbing activities or otherwise enter upon lands or waters owned by others without the owners' express permission.

An existing network of penstocks collect and convey the existing Pine Creek Mine discharge water above the project area. The mine discharge averages up to 14 cfs. The proposed project would utilize a single, approximately 20-inch-in-diameter conduit within the project area that would convey the discharge water to the turbine where the pressure would be reduced. The applicant proposes to interconnect with an existing 56-kilovolt transmission line, maintained by Southern California Edison, which runs the length of the canyon. The estimated annual generation of the project would be 6,850,000 kilowatt-hours.

Applicant Contact: Douglas A. Hicks, Bishop Tungsten Development, LLC, 725 9050 Pine Creek Road, Bishop, CA 93514; phone: (706) 387-2080.

FERC Contact: Shana Murray (202) 502-8333.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13622-000) in the docket number field to access the document. For assistance, contact FERC Online Support.

Kimberly D. Bose,
Secretary.

[FR Doc. 2010-27122 Filed 10-26-10; 8:45 am]

BILLING CODE 6717-01-P